DEPARTMENT OF ENERGY

Federal Energy Regulatory Commission

[Project No. 2701-061]

Erie Boulevard Hydropower, L.P.; Notice of Reasonable Period of Time for Water Quality Certification Application

On March 10, 2022, Erie Boulevard Hydropower, L.P. submitted to the Federal Energy Regulatory Commission (Commission) evidence of its application for a Clean Water Act section 401(a)(1) water quality certification filed with New York State Department of Environmental Conservation (New York DEC), in conjunction with the above captioned project. Pursuant to section 401 of the Clean Water Act ¹ and section 5.23(b) of the Commission's regulations,² a state certifying agency is deemed to have waived its certifying authority if it fails or refuses to act on a certification request within a reasonable period of time, which is one year after the date the certification request was received. Accordingly, we hereby notify New York DEC of the following:

¹ 33 U.S.C. 1341(a)(1).

² 18 CFR [4.34(b)(5)/5.23(b)/153.4/157.22].

Date that New York DEC Received the Certification Request: March 9, 2022.

If New York DEC fails or refuses to act on the water quality certification request on or before March 9, 2023, then the agency certifying authority is deemed waived pursuant to section 401(a)(1) of the Clean Water Act, 33 U.S.C. 1341(a)(1).

Dated: April 7, 2022.
Kimberly D. Bose,
Secretary.

[FR Doc. 2022-08032 Filed 4-13-22; 8:45 am]

BILLING CODE 6717-01-P